FEDERAL COMMUNICATIONS COMMISSION

[FCC 00-105]

Maritime Communications

AGENCY: Federal Communications Commission.

ACTION: Notice.

SUMMARY: The Commission extends forbearance from the Communications Act of 1934, as amended, requirement which forbids the assignment of a radio license or transfer of control of a radio licensee corporation without obtaining prior Commission consent to Public Coast Stations that are licensed and regulated under the Commission's Rules because these stations provide telecommunications for a fee directly to the public.

FOR FURTHER INFORMATION CONTACT: Keith Fickner or Ghassan Khalek, Policy and Rules Branch, Public Safety and Private Wireless Division, Wireless Telecommunications Bureau at (202) 418-0680.

SUPPLEMENTARY INFORMATION: This is a summary of the Commission's Memorandum Opinion and Order, WT Docket No. 00-48, FCC 00-105, adopted March 17, 2000, and released on March 24, 2000. The full text of this Memorandum Opinion and Order is available for inspection and copying during normal business hours in the FCC Reference Center, Room CY-A257, 445 12th Street, SW, Washington, DC. The complete text may be purchased from the Commission's copy contractor, International Transcription Service, Inc., 1231 20th Street, NW, Washington, DC 20037. The full text may also be downloaded at: www.fcc.gov/Bureaus/Wireless/Notices/2000/fcc00105.doc. Alternative formats are available to persons with disabilities by contacting Martha Contee at (202) 418-0260 or TTY (202) 418-2555.

In this Memorandum Opinion and Order, the Commission refers to Section 310(d) of the Communications Act, which forbids the assignment of a radio license or transfer of control of a radio licensee corporation without obtaining prior Commission consent. On February 4, 1998, the Commission held that there was sufficient justification in the record to forbear from enforcing the requirements of Section 310(d) of the Communications Act as they apply to all telecommunications carriers licensed by the Wireless Telecommunications Bureau (Bureau). However, as noted by WJG MariTEL Corporation (MariTEL), when the Commission listed the categories of telecommunications carriers who were licensed by the Bureau, it did not include telecommunications carriers licensed and regulated under Part 80 of the Commission's Rules. Under the Commission's Rules, licenses in the Maritime (ship) Radio Services may not be assigned. Therefore, Maritime (ship) Radio Services licenses are not subject to Section 310(d) of the Communications Act. On the other hand, Public Coast Stations, which are located on land, may be assigned under the Commission's Rules. Accordingly, the Commission will grant MariTEL's request and will extend forbearance from the requirements of Section 310(d) of the Communications Act for pro forma applications to telecommunications carriers licensed and regulated under Part 80 of the Commission's Rules because these carriers provide telecommunications for a fee directly to the public.

Federal Communications Commission.
Magalie Roman Salas,
Secretary.

[FR Doc. 00-10090 Filed 4-21-00; 8:45 am]

BILLING CODE 6712-01-P